DEPARTMENT OF HOUSING AND URBAN DEVELOPMENT

[Docket No. FR-4837-D-14]

Delegation of Authority for Native Hawaiian Housing Block Grant Program

AGENCY: Office of the Secretary, HUD.

ACTION: Notice of delegation of authority.

SUMMARY: In this notice, the Secretary delegates to the Assistant Secretary for Public and Indian Housing the authority to administer the Native Hawaiian Housing Block Grant program.

EFFECTIVE DATE: July 7, 2003.

FOR FURTHER INFORMATION CONTACT: Sherone Ivey, Office of Native American Programs, Office of Public and Indian Housing, Department of Housing and Urban Development, 451 Seventh Street, SW., Room 4126, Washington DC 20410-5000; telephone (202) 401-7914. (This is not a toll-free number.) For those needing assistance, this number may be accessed through TTY by calling the toll-free Federal Information Relay Service at 1-800-877-8339.

SUPPLEMENTARY INFORMATION: The Native Hawaiian Housing Block Grant (NHHBG) program was created by section 203 of Title II of the Omnibus Indian Advancement Act (Public Law 106-568, 114 Stat. 2876, approved December 27, 2000) and section 513 of the American Homeownership and Economic Opportunity Act of 2000 (Public Law 106-569, 114 Stat. 2969, approved December 27, 2000), which amended the Native American Housing Assistance and Self-Determination Act of 1996 (25 U.S.C. 4101 et seq.) by adding a new Title VIII. The objective of the NHHBG program is to provide housing block grants to fund affordable housing activities for native Hawaiians.

This notice delegates the authority to administer the NHHBG program to the Assistant Secretary for Public and Indian Housing.

Section A. Authority Delegated

The Secretary of HUD delegates to the Assistant Secretary for Public and Indian Housing the authority to administer the NHHBG program, including the authority to issue and waive regulations.

Section B. Authority Excepted

The authority delegated in Section A does not include the authority to sue and be sued.

Section C. Authority to Redelegate

The authority delegated in Section A may be redelegated to employees of the Department through written redelegations of authority, except for the authority to issue and waive regulations.

Authority: Section 7(d), Department of Housing and Urban Development Act (42 U.S.C. 3535(d)).

Dated: July 7, 2003.
Mel Martinez,
Secretary.

[FR Doc. 03-18185 Filed 7-17-03; 8:45 am]

BILLING CODE 4210-32-P